DEPARTMENT OF THE TREASURY

Office of Foreign Assets Control

31 CFR Chapter V

Blocked Persons, Specially Designated Nationals, Specially Designated Terrorists, Foreign Terrorist Organizations, and Specially Designated Narcotics Traffickers: Additional Designations and Removals and Supplementary Information on Specially Designated Narcotics Traffickers, Foreign Terrorist Organizations

AGENCY: Office of Foreign Assets Control, Treasury.

ACTION: Amendment of final rule.

SUMMARY: The Treasury Department is amending appendix A to 31 CFR chapter V by adding the names of fifteen individuals and five entities, and supplementing information concerning one individual, who have been designated as specially designated narcotics traffickers. The entries for two individuals previously listed as specially designated narcotics traffickers are being removed from appendix A, and the name of one organization which has been designated as a foreign terrorist organization is being added to appendix A.

EFFECTIVE DATE: November 28, 2000.

FOR FURTHER INFORMATION CONTACT: Office of Foreign Assets Control, Department of the Treasury, Washington, D.C. 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

Appendix A to 31 CFR chapter V contains the names of blocked persons, specially designated nationals, specially designated terrorists, foreign terrorist organizations, and specially designated narcotics traffickers designated pursuant to the various economic sanctions programs administered by the Office of Foreign Assets Control (“OFAC”). Pursuant to section 804(b) of the Foreign Narcotics Kingpin Designation Act, 21 U.S.C. 1903(b), on June 1, 2000, President Clinton identified twelve individuals as significant foreign narcotics traffickers. In accordance with section 598.314 of the Foreign Narcotics Kingpin Sanctions Regulations, 31 CFR part 598, those twelve individuals are added to appendix A as specially designated narcotics traffickers. The notes to the appendixes to 31 CFR chapter V are amended to add the term “[SDNTK]” to refer to those persons designated as specially designated narcotics traffickers under the Foreign Narcotics Kingpin Sanctions Regulations.

As of June 1, 2000, all property and interests in property, including but not limited to all accounts, that are or come within the United States or that are or come within the possession or control of U.S. persons, including their overseas branches, that are owned or controlled by those twelve persons are blocked. All transactions or dealings by U.S. persons or within the United States in property or interests in property of those twelve persons are prohibited unless licensed by the Office of Foreign Assets Control or otherwise authorized.

In addition, the Office of Foreign Assets Control is adding to appendix A the names of three individuals and five entities who have been determined to play a significant role in international narcotics trafficking centered in Colombia, to materially assist in or provide financial support or technological support for, or goods or services in support of the narcotics trafficking activities of other specially designated narcotics traffickers, or to be owned or controlled by, or to act for or on behalf of, persons designated in or pursuant to Executive Order 12978 of October 21, 1995, “Blocking Assets and Prohibiting Transactions with Significant Narcotics Traffickers” (the “Order”), and section 536.312 of the Narcotics Trafficking Sanctions Regulations, 31 CFR part 536 (collectively “Specially Designated Narcotics Traffickers” or “SDNTs”). All real and personal property in which the SDNTs have any interest, including but not limited to all accounts, that are or come within the United States or that are or come within the possession or control of U.S. persons, including their overseas branches, are blocked. All transactions by U.S. persons or within the United States in property or interests in property of SDNTs are prohibited unless licensed by the Office of Foreign Assets Control or exempted by statute. Supplementary information is added to an existing SDNT entry for one individual, and that entry is revised in its entirety.

The Office of Foreign Assets Control also is removing from appendix A the entries for two individuals because it has been determined that they no longer meet the criteria for designation as SDNTs under the Order and the Narcotics Trafficking Sanctions Regulations. All real and personal property of these two individuals, including all accounts in which they have any interest, that had been blocked solely due to their designation as SDNTs, is unblocked; and all lawful transactions involving U.S. persons and these individuals previously barred as a result of their designation are permissible.

Designations of foreign persons blocked pursuant to the Order are effective upon the date of determination by the Director of the Office of Foreign Assets Control, acting under authority delegated by the Secretary of the Treasury. Public notice of blocking is effective upon the date of filing with the Federal Register, or upon prior actual notice.

Finally, in furtherance of section 303 of the Antiterrorism and Effective Death Penalty Act of 1996, 18 U.S.C. 2339B (“AEDPA”), implemented in part by the Foreign Terrorist Organizations Sanctions Regulations, 31 CFR part 597 (the “FTO Regulations”), the Office of Foreign Assets Control is adding the name of one foreign terrorist organization to appendix A to 31 CFR chapter V. Section 303 of AEDPA, as implemented in section 597.201 of the FTO Regulations, requires financial institutions in possession or control of funds in which a foreign terrorist organization or its agent has an interest to block such funds except as authorized pursuant to the FTO Regulations, and to file reports in accordance with the FTO Regulations.

The foreign terrorist organization, The Islamic Movement of Uzbekistan, was designated by the Secretary of State in a notice published in the Federal Register on September 25, 2000 (65 FR 57641), pursuant to section 302 of AEDPA, 8 U.S.C. 1189, which authorizes the Secretary of State, in consultation with the Secretary of the Treasury and the Attorney General, to designate organizations meeting stated requirements as FTOs, with prior notification to Congress of the intent to designate.

Because this rule involves a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 18 U.S.C. 2339B, 21 U.S.C. 1901-1908; 31 U.S.C. 321(b), 50 U.S.C. 1601-1651; 50 U.S.C. 1701-1706; E.O. 12978, 60 FR 54579, 3 CFR, 1995 Comp., p. 415, the appendixes to 31 CFR chapter V are amended as set forth below:

Appendixes to Chapter V

1. The notes to the appendixes to chapter V are amended by amending note 6 to add the following entry inserted in alphabetical order to read as follows:

Notes: * * *

* * * * *

6. * * *

[SDNTK]: Foreign Narcotics Kingpin Sanctions Regulations, part 598;

* * * * *

Appendix A—[Amended]

2. Appendix A to 31 CFR chapter V is amended by adding the following names inserted in alphabetical order:

ADEMULERO, Babestan Oluwole (see OGUNGBUYI, Oluwole A.) (individual) [SDNTK]

AGRICOLA GANADERA HENAO GONZALEZ Y CIA. S.C.S., Carrera 4A No. 16-04 apt. 303, Cartago, Colombia; Km. 5 Via Aeropuerto, Cartago, Colombia; Carrera 1 No. 13-08, Cartago, Colombia; NIT # 800021615-1 (Colombia) [SDNT]

AMESCUA, Chuey (see AMEZCUA CONTRERAS, Jose de Jesus) (individual) [SDNTK]

AMEZCUA CONTRERAS, Jesus (see AMEZCUA CONTRERAS, Jose de Jesus) (individual) [SDNTK]

AMEZCUA CONTRERAS, Jose de Jesus (a.k.a. AMESCUA, Chuey; a.k.a. AMEZCUA CONTRERAS, Jesus; a.k.a. AMEZCUA, Chuy; a.k.a. AMEZCUA, Jose de Jesus; a.k.a. HERNANDEZ, Adan), DOB 31 July 1963; alt. DOB 31 July 1964; alt. DOB 31 July 1965; POB Mexico (individual) [SDNTK]

AMEZCUA CONTRERAS, Luis Ignacio (a.k.a. AMEZCUA, Luis; a.k.a. CONTRERAS, Luis C.; a.k.a. LOPEZ, Luis; a.k.a. LOZANO, Eduardo; a.k.a. OCHOA, Salvador; a.k.a. RODRIGUEZ LOPEZ, Sergio), DOB 22 February 1964; alt. DOB 21 February 1964; alt. DOB 21 February 1974; POB Mexico (individual) [SDNTK]

AMEZCUA, Chuy (see AMEZCUA CONTRERAS, Jose de Jesus) (individual) [SDNTK]

AMEZCUA, Jose de Jesus (see AMEZCUA CONTRERAS, Jose de Jesus) (individual) [SDNTK]

AMEZCUA, Luis (see AMEZCUA CONTRERAS, Luis Ignacio) (individual) [SDNTK]

ARELLANO FELIX, Benjamin Alberto, DOB 12 March 1952; alt. DOB 8 November 1953; alt. DOB 11 August 1955; POB Mexico (individual) [SDNTK]

ARELLANO FELIX, Ramon Eduardo (a.k.a. COMACHO RODRIGUES, Gilberto; a.k.a. TORRES MENDEZ, Ramon), DOB 31 August 1964; POB Mexico (individual) [SDNTK]

BABESTAN, Abeni O. (see OGUNGBUYI, Abeni O.) (individual) [SDNTK]

BABESTAN, Wole A. (see OGUNGBUYI, Oluwole A.) (individual) [SDNTK]

CARO QUINTERO, Rafael (a.k.a. CARO QUINTERO, Raphael), DOB 12 December 1952; alt. DOB 24 November 1955; alt. DOB 24 October 1955; POB Mexico (individual) [SDNTK]

CARO QUINTERO, Raphael (see CARO QUINTERO, Rafael) (individual) [SDNTK]

CARRILLO FUENTES, Andres (see CARRILLO FUENTES, Vicente) (individual) [SDNTK]

CARRILLO FUENTES, Vicente (a.k.a. CARRILLO FUENTES, Andres), DOB 16 October 1962; POB Mexico (individual) [SDNTK]

CHAN, Changtrakul (see CHANG, Chi Fu) (individual) [SDNTK]

CHANG, Chi Fu (a.k.a. CHAN, Changtrakul; a.k.a. CHANG, Shi-Fu; a.k.a. CHANG, Xifu; a.k.a. CHANGTRAKUL, Chan; a.k.a. KHUN SA), DOB 17 February 1933; alt. DOB 7 January 1932; alt. DOB 12 February 1932; POB Burma (individual) [SDNTK]

CHANG, Shi-Fu (see CHANG, Chi Fu) (individual) [SDNTK]

CHANG, Xifu (see CHANG, Chi Fu) (individual) [SDNTK]

CHANGTRAKUL, Chan (see CHANG, Chi Fu) (individual) [SDNTK]

CHARNCHAI, Chiwinnitipanya (see WEI, Hsueh Kang) (individual) [SDNTK]

CHEEWINNITTIPANYA, Prasit (see WEI, Hsueh Kang) (individual) [SDNTK]

CHIVINNITIPANYA, Prasit (see WEI, Hsueh Kang) (individual) [SDNTK]

CHIWINNITIPANYA, Charnchai (see WEI, Hsueh Kang) (individual) [SDNTK]

COMACHO RODRIGUES, Gilberto (see ARELLANO FELIX, Ramon Eduardo) (individual) [SDNTK]

COMPANIA AGROINVERSORA HENAGRO LTDA., Carrera 1 No. 13-08, Cartago, Colombia; Hacienda Coque, Cartago, Colombia; Km. 5 Via Aeropuerto, Cartago, Colombia; NIT # 800084326-8 (Colombia) [SDNT]

CONTRERAS, Luis C. (see AMEZCUA CONTRERAS, Luis Ignacio) (individual) [SDNTK]

DESARROLLOS COMERCIALES E INDUSTRIALES HENAO GONZALEZ Y CIA. S.C.S., Carrera 4A No. 16-04 apt. 303, Cartago, Colombia; NIT # 800160475-2 (Colombia) [SDNT]

GONZALEZ BENITEZ, Olga Patricia, Hacienda Coque, Cartago, Colombia; Carrera 4 No. 16-04 apt. 303, Cartago, Colombia; c/o AGRICOLA GANADERA HENAO GONZALEZ Y CIA. S.C.S., Cartago, Colombia; c/o DESARROLLOS COMERCIALES E INDUSTRIALES HENAO GONZALEZ Y CIA. S.C.S., Cartago, Colombia; Cedula No. 29503761 (Colombia) (individual) [SDNT]

HEATH, Noel Timothy (a.k.a. ZAMBA, Noel Heath; a.k.a. ZAMBO, Noel Heath), Cardin Avenue, St. Kitts; DOB 16 December 1949; POB St. Kitts and Nevis; Passport 03574 (Great Britain) (individual) [SDNTK]

HENAO MONTOYA, Arcangel de Jesus, Hacienda Coque, Cartago, Colombia; Carrera 4 No. 16-04 apt. 303, Cartago, Colombia; c/o AGRICOLA GANADERA HENAO GONZALEZ Y CIA. S.C.S., Cartago, Colombia; c/o COMPANIA AGROINVERSORA HENAGRO LTDA., Cartago, Colombia; c/o DESARROLLOS COMERCIALES E INDUSTRIALES HENAO GONZALEZ Y CIA. S.C.S., Cartago, Colombia; c/o MAQUINARIA TECNICA Y TIERRAS LTDA., Cartago, Colombia; c/o ORGANIZACION EMPRESARIAL A DE J HENAO M E HIJOS Y CIA. S.C.S., Cartago, Colombia; DOB 7 October 1954; Cedula No. 16215230 (Colombia) (individual) [SDNT]

HERNANDEZ, Adan (see AMEZCUA CONTRERAS, Jose de Jesus) (individual) [SDNTK]

THE ISLAMIC MOVEMENT OF UZBEKISTAN [FTO]

KADUMPORN, Somboon (see WEI, Hsueh Kang) (individual) [SDNTK]

KHUN SA (see CHANG, Chi Fu) (individual) [SDNTK]

LOPEZ, Luis (see AMEZCUA CONTRERAS, Luis Ignacio) (individual) [SDNTK]

LOZANO, Eduardo (see AMEZCUA CONTRERAS, Luis Ignacio) (individual) [SDNTK]

MAQUINARIA TECNICA Y TIERRAS LTDA. (a.k.a. M.T.T. LTDA.), Carrera 4A No. 16-04, Cartago, Colombia; NIT # 800084233-1 (Colombia) [SDNT]

MATHEW, Glenroy (see MATTHEWS, Glenroy Vingrove) (individual) [SDNTK]

MATTHEW, Glenroy Wingrove (see MATTHEWS, Glenroy Vingrove) (individual) [SDNTK]

MATTHEWS, Glenroy Vingrove (a.k.a. MATHEW, Glenroy; a.k.a. MATTHEW, Glenroy Wingrove; a.k.a. MATTHEWS, Glen Roy), Frigate Bay, St. Kitts; DOB 26 July 1958; POB St. Kitts and Nevis; Passport 047815 (St. Kitts) (individual) [SDNTK]

MATTHEWS, Glen Roy (see MATTHEWS, Glenroy Vingrove) (individual) [SDNTK]

M.T.T. LTDA. (see MAQUINARIA TECNICA Y TIERRAS LTDA.) [SDNT]

OCHOA, Salvador (see AMEZCUA CONTRERAS, Luis Ignacio) (individual) [SDNTK]

OGUNGBUYI, Abeni O. (a.k.a. BABESTAN, Abeni O.; a.k.a. SHOFESO, Olatutu Temitope), DOB 30 June 1952; POB Nigeria (individual) [SDNTK]

OGUNGBUYI, Oluwole A. (a.k.a. ADEMULERO, Babestan Oluwole; a.k.a. BABESTAN, Wole A.; a.k.a. OGUNGBUYI, Wally; a.k.a. OGUNGBUYI, Wole A.; a.k.a. SHOFESO, Olatude I.; a.k.a. SHOFESO, Olatunde Irewole), DOB 4 March 1953, POB Nigeria (individual) [SDNTK]

OGUNGBUYI, Wally (see OGUNGBUYI, Oluwole A.) (individual) [SDNTK]

OGUNGBUYI, Wole A. (see OGUNGBUYI, Oluwole A.) (individual) [SDNTK]

ORGANIZACION EMPRESARIAL A DE J HENAO M E HIJOS Y CIA. S.C.S., Carrera 4A No. 16-04 apt. 303, Cartago, Colombia; Km. 5 Via Aeropuerto, Hacienda Coque, Cartago, Colombia; NIT # 800157331-1 (Colombia) [SDNT]

PRASIT, Cheewinnittipanya (see WEI, Hsueh Kang) (individual) [SDNTK]

PRASIT, Chivinnitipanya (see WEI, Hsueh Kang) (individual) [SDNTK]

RAMIREZ ABADIA, Juan Carlos, Calle 6A No. 34-65, Cali, Colombia; DOB 16 February 1963; Passport AD127327 (Colombia); Cedula No. 16684736 (Colombia) (individual) [SDNT]

RODRIGUEZ LOPEZ, Sergio (see AMEZCUA CONTRERAS, Luis Ignacio) (individual) [SDNTK]

SHOFESO, Olatude I. (see OGUNGBUYI, Oluwole A.) (individual) [SDNTK]

SHOFESO, Olatunde Irewole (see OGUNGBUYI, Oluwole A.) (individual) [SDNTK]

SHOFESO, Olatutu Temitope (see OGUNGBUYI, Abeni O.) (individual) [SDNTK]

SOMBOON, Kadumporn (see WEI, Hsueh Kang) (individual) [SDNTK]

TORRES MENDEZ, Ramon (see ARELLANO FELIX, Ramon Eduardo) (individual) [SDNTK]

WEI, Hsueh Kang (a.k.a. CHARNCHAI, Chiwinnitipanya; a.k.a. CHEEWINNITTIPANYA, Prasit; a.k.a. CHIVINNITIPANYA, Prasit; a.k.a. CHIWINNITIPANYA, Charnchai; a.k.a. KADUMPORN, Somboon; a.k.a. PRASIT, Cheewinnittipanya; a.k.a. PRASIT, Chivinnitipanya; a.k.a. SOMBOON, Kadumporn; a.k.a. WEI, Shao-Kang; a.k.a. WEI, Sia-Kang; a.k.a. WEI, Xuekang), DOB 29 June 1952; alt. DOB 29 May 1952; Passports Q081061, E091929 (Thailand) (individual) [SDNTK]

WEI, Shao-Kang (see WEI, Hsueh Kang) (individual) [SDNTK]

WEI, Sia-Kang (see WEI, Hsueh Kang) (individual) [SDNTK]

WEI, Xuekang (see WEI, Hsueh Kang) (individual) [SDNTK]

ZAMBA, Noel Heath (see HEATH, Noel Timothy) (individual) [SDNTK]

ZAMBO, Noel Heath (see HEATH, Noel Timothy) (individual) [SDNTK]

3. Appendix A to 31 CFR chapter V is amended by revising the following existing entry to read as follows:

MUÑOZ PAZ, Joaquin Emilio, Avenida 4AN No. 47-89, Cali, Colombia; c/o CONSTRUCTORA DIMISA LTDA., Cali, Colombia; c/o INMOBILIARIA U.M.V. S.A., Cali, Colombia; c/o INVERSIONES Y CONSTRUCCIONES VALLE S.A., Cali, Colombia; DOB 18 January 1971; Cedula No. 16789012 (Colombia) (individual) [SDNT]

4. Appendix A to 31 CFR chapter V is amended by removing in their entirety the entries for “OSPINA DUQUE, Elssy” and “VILLALOBOS CASTAÑO, Luis Enrique”.

Dated: October 27, 2000.
R. Richard Newcomb,
Director, Office of Foreign Assets Control.
Approved: November 4, 2000.
Elisabeth A. Bresee,
Assistant Secretary (Enforcement), Department of the Treasury.

[FR Doc. 00-30693 Filed 11-28-00; 4:29 pm]

BILLING CODE 4810-25-P